DEPARTMENT OF LABOR

Employment and Training Administration

[TA-W-38,898]

LTV Steel Mining Company Including Workers of Cleveland Cliffs Mining Company Hoyt Lakes, MN; Amended Certification Regarding Eligibility To Apply for Worker Adjustment Assistance

In accordance with Section 223 of the Trade Act of 1974 (19 U.S.C. 2273) the Department of Labor issued a Certification of Eligibility to Apply for Worker Adjustment Assistance on May 17, 2001, applicable to workers of LTV Steel Mining Company, Hoyt Lakes, Minnesota who were engaged in the production of taconite pellets. The notice was published in the Federal Register on May 25, 2001 (66 FR 28928).

At the request of the United Steelworkers of America, Local Union 4108, the Department reviewed the certification for workers of the subject firm. The company reports that management staff at the subject firm was provided by Cleveland Cliffs Mining Company. Administrative functions, including production management and accounting services supported the production of taconite pellets at the subject firm.

Accordingly, the Department is amending the certification to include workers of Cleveland Cliffs Mining Company employed at LTV Steel Mining Company, Hoyt Lakes, Minnesota.

The intent of the Department's certification is to include all workers of LTV Steel Mining Company adversely affected by increased imports.

The amended notice applicable to [TA-W-38,898] is hereby issued as follows:

All workers of LTV Steel Mining Company, Hoyt Lakes, Minnesota, engaged in employment related to the production of taconite pellets; and, all workers of Cleveland Cliffs Mining Company employed at LTV Steel Mining Company, Hoyt lakes, Minnesota, who became totally or partially separated from employment on or after March 5, 2000 through May 17, 2003, are eligible to apply for adjustment assistance under Section 223 of the Trade Act of 1974.

Signed at Washington, DC this 13th day of August, 2001.
Linda G. Poole,
Certifying Officer, Division of Trade Adjustment Assistance.

[FR Doc. 01-21838 Filed 8-28-01; 8:45 am]

BILLING CODE 4510-30-M